DEPARTMENT OF TRANSPORTATION

Federal Aviation Administration

14 CFR Part 39

[Docket No. FAA-2009-0201; Directorate Identifier 2008-NE-47-AD; Amendment 39-16314; AD 2010-11-09]

RIN 2120-AA64

Airworthiness Directives; Thielert Aircraft Engines GmbH (TAE) Models TAE 125-01 and TAE 125-02-99 Reciprocating Engines Installed In, But Not Limited To, Diamond Aircraft Industries Model DA 42 Airplanes; Correction

AGENCY: Federal Aviation Administration (FAA), DOT.

ACTION: Final rule; correction.

SUMMARY: The FAA is correcting airworthiness directive (AD) 2010-11-09, which published in the Federal Register. That AD applies to TAE models TAE 125-01 and TAE 125-02-99 reciprocating engines, installed in, but not limited to, Diamond Aircraft Industries model DA 42 airplanes. The part number for engine model TAE 125-01 is missing a digit in paragraph (c) and in paragraph (e)(3). This document corrects those part numbers. In all other respects, the original document remains the same.

DATES: This correction is effective September 2, 2010. The compliance times of AD 2010-11-09 remain unchanged.

FOR FURTHER INFORMATION CONTACT: Tara Chaidez, Aerospace Engineer, Engine Certification Office, FAA, Engine and Propeller Directorate, 12 New England Executive Park, Burlington, MA 01803; e-mail: tara.chaidez@faa.gov; telephone (781) 238-7773; fax (781) 238-7199.

SUPPLEMENTARY INFORMATION: On June 8, 2010 (75 FR 32253), we published a final rule AD, FR Doc. 2010-12540, in the Federal Register. That AD applies to TAE models TAE 125-01 and TAE 125-02-99 reciprocating engines, installed in, but not limited to, Diamond Aircraft Industries model DA 42 airplanes. We need to make the following corrections:

§ 39.13 [Corrected]

On page 32254, in the second column, in paragraph (c), in the fifth line, “or 02-7200-1401R1” is corrected to read “or 02-7200-14017R1”.

On page 32254, in the second column, in paragraph (e)(3), in the second line, “engine P/N 02-7200-1401R1” is corrected to read “engine P/N 02-7200-14017R1”

Issued in Burlington, Massachusetts, on August 26, 2010.
Thomas A. Boudreau,
Acting Manager, Engine and Propeller Directorate, Aircraft Certification Service.

[FR Doc. C1-2010-21870 Filed 9-1-10; 8:45 am]

BILLING CODE 4910-13-P